DEPARTMENT OF HOMELAND SECURITY

U.S. Customs and Border Protection

Agency Information Collection Activities: Andean Trade Preferences Act

AGENCY: U.S. Customs and Border Protection (CBP), Department of Homeland Security.

ACTION: 60-Day notice and request for comments; Extension of an existing information collection: 1651-0091.

SUMMARY: As part of its continuing effort to reduce paperwork and respondent burden, CBP invites the general public and other Federal agencies to comment on an information collection requirement concerning the Andean Trade Preferences. This request for comment is being made pursuant to the Paperwork Reduction Act of 1995 (Pub. L. 104-13; 44 U.S.C. 3505(c)(2)).

DATES: Written comments should be received on or before May 7, 2013, to be assured of consideration.

ADDRESSES: Direct all written comments to U.S. Customs and Border Protection, Attn: Tracey Denning, Regulations and Rulings, Office of International Trade, 90 K Street NE., 10th Floor, Washington, DC 20229-1177.

FOR FURTHER INFORMATION CONTACT: Requests for additional information should be directed to Tracey Denning, U.S. Customs and Border Protection, Regulations and Rulings, Office of International Trade, 90 K Street NE., 10th Floor, Washington, DC 20229-1177, at 202-325-0265.

SUPPLEMENTARY INFORMATION: CBP invites the general public and other Federal agencies to comment on proposed and/or continuing information collections pursuant to the Paperwork Reduction Act of 1995 (Pub. L. 104-13; 44 U.S.C. 3505(c)(2)). The comments should address: (a) Whether the collection of information is necessary for the proper performance of the functions of the agency, including whether the information shall have practical utility; (b) the accuracy of the agency's estimates of the burden of the collection of information; (c) ways to enhance the quality, utility, and clarity of the information to be collected; (d) ways to minimize the burden including the use of automated collection techniques or the use of other forms of information technology; and (e) estimates of capital or start-up costs and costs of operations, maintenance, and purchase of services to provide information. The comments that are submitted will be summarized and included in the request for Office of Management and Budget (OMB) approval. All comments will become a matter of public record. In this document the CBP is soliciting comments concerning the following information collection:

Title: Andean Trade Preferences Act.

OMB Number: 1651-0091.

Form Number: CBP Forms 449 and 17.

Abstract: This collection of information is required to implement the duty preference provisions of the Andean Trade Preference Act (ATPA) and the Andean Trade Promotion and Drug Eradication Act (ATPDEA). These programs involve duty-free or reduced-duty treatment of imported goods under certain rules that are provided for in these two Acts, as codified in 19 U.S.C. 3201 through 3206.

The ATPA declaration format is provided for by 19 CFR Part 10.201-10.207. The type of information collected includes the processing operations performed on articles, the material produced in a beneficiary country or in the U.S., and a description of those processing operations. CBP Form 17, Andean Trade Preference Act (ATPA) Declaration, may be used when claiming preferential treatment under ATPA. This form is accessible at: http://forms.cbp.gov/pdf/cbp_form_17.pdf.

ATPDEA is provided for by 19 CFR 10.251-10.257. Claims under ATPDEA are submitted using CBP Form 449, Andean Trade Promotion and Drug Eradication Act (ATPDEA) Certificate of Origin. This form can be used only when claiming ATPDEA preferential treatment on the goods listed on the back of the form. CBP Form 449 is accessible at: http://forms.cbp.gov/pdf/CBP_Form_449.pdf.

Current Actions: This submission is being made to extend the expiration date with no change to information collected or to CBP Forms 449 or 17.

Type of Review: Extension (without change).

Affected Public: Businesses.

ATPA Certificate of Origin:

Estimated Number of Respondents: 2,133.

Estimated Number of Annual Responses per Respondent: 2.

Estimated Number of Total Annual Responses: 4,266.

Estimated Time per Response: 10 minutes.

Estimated Total Annual Burden Hours: 711.

ATPDEA Certificate of Origin:

Estimated Number of Respondents: 233.

Estimated Number of Annual Responses per Respondent: 7.

Estimated Number of Total Annual Responses: 1,631.

Estimated Time per Response: 30 minutes.

Estimated Total Annual Burden Hours: 815.

Dated: March 5, 2013.
Seth Renkema,
Acting Agency Clearance Officer, U.S. Customs and Border Protection.

[FR Doc. 2013-05478 Filed 3-7-13; 8:45 am]

BILLING CODE 9111-14-P